DEPARTMENT OF LABOR

Comment Request for Information Collection for Employment and Training (ET) Handbook 336, 18th Edition: “Unemployment Insurance (UI) State Quality Service Plan Planning (SQSP) and Reporting Guidelines,” Extension of Current Collection

AGENCY: Employment and Training Administration, Labor Department.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the proposed extension to ET Handbook 336, 18th Edition: “Unemployment Insurance (UI) State Quality Service Plan Planning (SQSP) and Reporting Guidelines” which expires August 31, 2011. S:OUI\OMB\1205-0132\2011\1205-0132SQSP 60 day FRN.doc A copy of the proposed information collection request (ICR) can be obtained by contacting the office listed below in the addressee section of this notice.

DATES: Written comments must be submitted to the office listed in the addressee's section below on or before July 5, 2011.

ADDRESSES: Submit written comments to the Employment and Training Administration, Office of Unemployment Insurance, 200 Constitution Avenue, NW., Room S4220, Washington, DC 20210, Attention: Delores Mackall. Telephone number: 202-693-3183 (this is not a toll-free number). Fax: 202-693-3975. E-mail: Mackall.Delores@dol.gov.

SUPPLEMENTARY INFORMATION:

I. Background

The SQSP represents an approach to the unemployment insurance performance management and planning process that allows for an exchange of information between the federal and state partners to enhance the ability of the program to reflect the joint commitment to performance excellence and client-centered services. As part of UI Performs, a comprehensive performance management system implemented in 1995 for the UI program, the SQSP is the principal vehicle that state UI agencies use to plan, record and manage program improvement efforts as they strive for excellence in service. The SQSP, which serves as the State Plan for the UI program, also serves as the grant document through which states receive federal UI administrative funding. The statutory basis for the SQSP is Title III, Section 302 of the Social Security Act, which authorizes the Secretary of Labor to provide funds to administer the UI programs, and Sections 303 (a) (8) and (9) which govern the expenditures of those funds. The SQSP represents an approach to tie program performance with the budget and planning process.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

ETA proposes to extend this information collection. The Department's information collection authority for SQSP is under Office of Management and Budget (OMB) number 1205-0132. Currently, the Employment and Training Administration is soliciting comments concerning the extension of and modification to the ET Handbook No. 336.

States will continue to use the State Plan Narrative to provide a general summary of the UI program in the state. Additionally, states are to include in the Narrative: (1) Performance in comparison to the Government Performance and Results Act (GPRA) goals; (2) results of customer satisfaction surveys (optional); and (3) actions planned to correct deficiencies regarding UI programs and reporting requirements. Actions planned to correct deficiencies for Secretary Standards, Core Measures, and the Data Validation (DV) program are expected to be addressed in corrective action plans.

On April 13, 2011, OMB approved a non-substantive change to 1205-0132, requiring that all states include in their SQSP submissions a corrective action plan to reduce and recover improper payments. Comment is encouraged on this recent change as well as on the 1205-0132 data requirements in general.

The Department will provide each state workforce agency with its state-specific root causes for its improper payments, based on BAM survey results. The SQSP Handbook No. 336 includes an action plan for each state to complete. The state action plan will include the following items:

• Strategies to reduce root causes, including recovery of these improper payments;

• Timeline, expected targets and measures; and

• Type and source of resources dedicated to accomplish the action plan.

III. Current Actions

Type of Review: extension of current collection.

Title: Unemployment Insurance State Quality Service Plan (SQSP).

OMB Number: 1205-0132.

Affected Public: State Workforce Agencies.

Total Annual Respondents: 53.

Reporting Frequency: 13 annual reports and 4 quarterly reports per year per respondent.

Total Annual Responses: 901.

Average Time per Response: 3.37 hours.

Estimated Total Annual Burden Hours: 3036 hours.

Total Annual Burden Cost for Respondents: $0.

Comments submitted in response to this comment request will be summarized and/or included in the request for Office of Management and Budget approval of the information collection request; they will also become a matter of public record.

Signed at Washington, DC, this 29th day of April 2011.
Jane Oates,
Assistant Secretary, Employment and Training Administration.

[FR Doc. 2011-10937 Filed 5-4-11; 8:45 am]

BILLING CODE 4510-FW-P